DEPARTMENT OF THE INTERIOR

National Park Service

[NPS-WASO-NAGPRA-22121; PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian Tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Diego Museum of Man. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Diego Museum of Man at the address in this notice by November 28, 2016.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C. 3003, of the completion of an inventory of human remains and associated funerary objects under the control of the San Diego Museum of Man, San Diego, California. The human remains and associated funerary objects were removed from Del Mar, San Diego County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the San Diego Museum of Man professional staff in consultation with representatives of the Campo Band of Diegueno Mission Indians of the Campo Indian Reservation, California; Capitan Grande Band of Diegueno Mission Indians of California: (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

History and Description of the Human Remains and Associated Funerary Objects

In 1929, human remains representing, at minimum, two individuals were removed from a coastal bluff facing the Pacific Ocean, north of the San Dieguito River mouth (SDM W-34) in Del Mar, San Diego County, CA. The remains were excavated by Malcolm J. Rogers, on behalf of the San Diego Museum of Man. Rogers was conducting archaeological reconnaissance work in the Southern California coastal, mountain and desert regions under a grant funded by the Smithsonian Institution. Later, he became a field archaeologist and Curator of Anthropology at the San Diego Museum of Man. Shortly after excavation, Rogers transferred control of the remains of these individuals to the San Diego Museum of Man. No known individuals were identified. The 98 associated funerary objects are 3 metates, 1 groundstone tool, 1 mano, 2 battered stones, 7 core tools, 2 ceramic pot sherds, 2 olivella beads, 1 chione pendant, 1 cottonwood biface, 1 biface tool, 28 utilized flakes, 10 fish vertebrae, 9 unidentified faunal remains, 1 fish palate, 5 stone ecofacts, 5 lots of various shell, 1 rock oyster, 2 argopectin shells, 3 limpets, 3 gastropods, 1 barnacle, 1 olivella shell, 1 moonsnail, 2 lots of small rock, 1 lot of charcoal, 1 abalone pry bar and 3 soil samples.

In 1972, human remains representing, at minimum, one individual were removed north of the La Zanja Canyon near Circo Diegueno Rd. (SDM W-467) in Del Mar, San Diego County, CA. The remains were removed by Mr. Phil McDonald during an independent excavation. The same year, McDonald donated the remains of this individual to the San Diego Museum of Man. No known individuals were identified. The 7 associated funerary objects are 6 core tools and 1 utilized flake.

Sites, SDM W-34 and SDM W-467, are located within territory traditionally occupied by the Kumeyaay Nation as represented by The Tribes. Based on collection research, archeological evidence, geographic location, ethnographic information, and oral history evidence, these remains have been identified as prehistoric Kumeyaay.

Determinations Made by the San Diego Museum of Man

• Officials of the San Diego Museum of Man have determined that: Pursuant to 25 U.S.C. 3001(9), the human remains described in this notice represent the physical remains of three individuals of Native American ancestry.

• Pursuant to 25 U.S.C 3001(3)(A), the 105 associated funerary objects described in this notice are reasonably believed to have been placed with or near individual human remains at time of death or later as part of the death rite or ceremony.

• Pursuant to 25 U.S.C. 3001(2), there is a relationship of shared group identity that can be reasonably traced between the Native American human remains and associated funerary objects and The Tribes.

Additional Requestors and Disposition

Lineal descendants and representatives of any Indian tribe or Native Hawaiian organization not identified in this notice that wish to request transfer of control of these human remains and associated funerary objects should submit a written request with information in support of the request to Ben Garcia, Deputy Director, San Diego Museum of Man, 1350 El Prado, San Diego, CA 92101, telephone (619) 239-2001 ext. 17, email bgarcia@museumofman.org by November 28, 2016. After that date, if no additional requestors have come forward, transfer of control of the human remains and associated funerary objects to The Tribes.

The San Diego Museum of Man is responsible for notifying The Tribes that this notice has been published.

Dated: October 6, 2016.
Melanie O'Brien,
Manager, National NAGPRA Program.

[FR Doc. 2016-25945 Filed 10-26-16; 8:45 am]

BILLING CODE 4312-52-P